OFFICE OF THE UNITED STATES TRADE REPRESENTATIVE

Generalized System of Preferences (GSP): Import Statistics Relating to Competitive Need Limitations; Invitation for Public Comment on Possible De Minimis Waivers and Redesignations

AGENCY: Office of the United States Trade Representative.

ACTION: Notice.

SUMMARY: This notice is to inform the public of the availability of interim 2005 import statistics relating to competitive need limitations (CNLs) under the Generalized System of Preferences (GSP) program. Public comments are invited by 5 p.m., January 27, 2006, regarding possible de minimis CNL waivers with respect to particular articles, and possible redesignations under the GSP program of articles currently not eligible for GSP benefits because they previously exceeded the CNLs.

FOR FURTHER INFORMATION CONTACT: The GSP Subcommittee of the Trade Policy Staff Committee, Office of the United States Trade Representative, 1724 F Street, NW., Room F-220, Washington, DC 20508. The telephone number is (202) 395-6971.

SUPPLEMENTARY INFORMATION:

I. Competitive Need Limitations

The GSP program provides for the duty-free importation of designated articles when imported from designated beneficiary developing countries (BDCs). The GSP program is authorized by title V of the Trade Act of 1974 (19 U.S.C. 2461, et seq.), as amended (the “1974 Act”), and is implemented in accordance with Executive Order 11888 of November 24, 1975, as modified by subsequent Executive Orders and Presidential Proclamations.

Section 503(c)(2)(A) of the 1974 Act sets out the two competitive need limitations (CNLs). When the President determines that a BDC exported to the United States during a calendar year either (1) a quantity of a GSP-eligible article having a value in excess of the applicable amount for that year ($120 million for 2005), or (2) a quantity of a GSP-eligible article having a value equal to or greater than 50 percent of the value of total U.S. imports of the article from all countries (the “50 percent CNL”), the President must terminate GSP duty-free treatment for that article from that BDC by no later than July 1 of the next calendar year.

Under section 503(c)(2)(F) of the 1974 Act, the President may waive the 50 percent CNL with respect to an eligible article imported from a BDC if the value of total imports of that article from all countries during the calendar year did not exceed the applicable de minimis amount for that year ($17.5 million for 2005).

Under section 503(c)(2)(C) of the 1974 Act, if imports of an eligible article from a BDC ceased to receive duty-free treatment due to exceeding a CNL in a prior year, the President may redesignate such an article for duty-free treatment if imports in the most recently completed calendar year did not exceed the CNLs.

II. Implementation of Competitive Need Limitations, Waivers, and Redesignations

Exclusions from GSP duty-free treatment where CNLs have been exceeded will be effective July 1, 2006, unless previously granted a waiver by the President. CNL exclusions, as well as decisions with respect to de minimis waivers and redesignations, will be based on full 2005 calendar year import statistics.

III. Interim 2005 Import Statistics

In order to provide advance notice of articles that may exceed the CNLs for 2005, and to afford an opportunity for comment regarding potential de minimis waivers and redesignations, “Interim 2005 Import Statistics Relating to Competitive Need Limitations” that cover the first 10 months of 2005 can be viewed at: http://www.ustr.gov/Trade_Development/Preference_Programs/GSP/Interim_2005_Import_Statistics_Relating_to_Competitive_Need_Limitations.html.

If unable to access these statistics on the USTR Web site, contact the GSP Subcommittee of the Trade Policy Staff Committee, which will make alternate arrangements to provide the lists.

Full calendar year 2005 data for individual tariff subheadings will be available in mid-February on the Web site of the U.S. International Trade Commission at http://dataweb.usitc.

gov/.

The four lists comprising the “Interim 2005 Import Statistics Relating to Competitive Need Limitations” contain, for each article, the Harmonized Tariff Schedule of the United States (HTSUS) subheading and BDC of origin, the value of imports of the article for the first 10 months of 2005, and the percentage of total imports of that article from all countries. The flags indicate the status of GSP eligibility. Articles marked with an “*” are those that have been excluded from GSP eligibility for the entire past calendar year. Articles marked with a “D” are those that, based on interim 2005 data, may be eligible for a de minimis waiver of the 50 percent CNL.

List I shows GSP-eligible articles from BDCs that have already exceeded the CNL by having been exported in excess of $120 million, or by an amount greater than 50% of the total U.S. import value in 2005. Those articles without a flag were GSP-eligible during 2005 but stand to lose GSP duty-free treatment on July 1, 2006, unless a waiver is granted. Such waivers are required to have been previously requested in the 2005 GSP Annual Review.

List II identifies GSP-eligible articles from BDCs that (1) have not yet exceeded, but are approaching, the $120 million CNL for the period January-October, 2005, or (2) are close to or above the 50 percent CNL. Depending on final calendar year 2005 import data, these articles stand to lose GSP duty-free treatment on July 1, 2006, unless a waiver is granted. Such waivers are required to have been previously requested in the 2005 GSP Annual Review.

List III is a subset of List II. List III identifies GSP-eligible articles from BDCs that are close to or above the 50 percent CNL, but that may be eligible for a de minimis waiver of the 50 percent CNL. Actual eligibility for de minimis waivers will depend on final calendar year 2005 import data. Each year, de minimis waivers are considered automatically without a petition, and public comments are invited.

List IV shows GSP-eligible articles from certain BDCs that are currently not receiving GSP duty-free treatment, but that have import levels (based on interim 2005 data) below the CNLs and thus may be eligible to be considered for redesignation, depending on final calendar year 2005 import data. Recommendations to the President on redesignations are normally made in with any recommendations resulting from the annual review, and public comments are invited.

The four lists comprising the “Interim 2005 Import Statistics Relating to Competitive Need Limitations” are computer-generated and based on interim 2005 data, and may not include all articles to which the GSP CNLs may apply. All determinations and decisions regarding the CNLs of the GSP program are based on full calendar year 2005 import data with respect to each GSP-eligible article. Each interested party is advised to conduct its own review of 2005 import data with regard to the possible application of GSP CNLs.

IV. Public Comments

Requirements for Submissions

All submissions must conform to the GSP regulations set forth at 15 CFR Part 2007, except as modified below. Furthermore, each party providing comments should indicate on the first page of the submission its name, the relevant HTSUS subheading(s), the BDC of interest, and the type of action (e.g., de minimis waiver or redesignation) in which the party is interested.

Comments must be submitted, in English, to the Chairman of the GSP Subcommittee of the Trade Policy Staff Committee (TPSC) as soon as possible, but not later than 5 p.m., January 27, 2006.

In order to facilitate prompt consideration of submissions, USTR requires electronic e-mail submissions in response to this notice. Hand-delivered submissions will not be accepted. Submissions should be single-copy transmissions in English with the total submission not to exceed 30 single-spaced standard letter-size pages, including attachments, in 12-point type as a digital file attached to an e-mail transmission. The e-mail transmission should use the following subject line: “Comments on 2005 Possible De Minimus Waivers and Redesignations” followed by the HTSUS subheading number and BDC of origin as set out in the appropriate list. Documents must be submitted as MSWord (“.doc”), WordPerfect (“.wpd”), or text (“.txt”) files. Documents will not be accepted if submitted as electronic image files or containing imbedded images (for example, “.jpg”, “.tif”, “.pdf”, “.bmp”, or “.gif”). Spreadsheets submitted as supporting documentation are acceptable as Quattro Pro or Excel files, pre-formatted for printing only on 8½ x 11 inch paper. To the extent possible, any data attachments to the submission should be included in the same file as the submission itself, and not as separate files.

Submissions in response to this notice will be subject to public inspection by appointment with the staff of the USTR Public Reading Room except for information granted “business confidential” status pursuant to 15 CFR 2003.6.

If the submission contains business confidential information, a non-confidential version of the submission must also be submitted that indicates where confidential information was redacted by inserting asterisks where material was deleted. In addition, the confidential version must be clearly marked “BUSINESS CONFIDENTIAL” at the top and bottom of each page of the document. The non-confidential version must be clearly marked “PUBLIC” or “NON-CONFIDENTIAL” at the top and bottom of each page. Documents that are submitted without any marking might not be accepted or will be considered public documents.

For any document containing business confidential information submitted as an electronic attached file to an e-mail transmission, the file name of the business confidential version should begin with the characters “BC-”, and the file name of the public version should begin with the character “P-”. The BC-” or “P-” should be followed by the name of the party (government, company, union, association, etc.) which is submitting the comments.

E-mail submissions should not include separate cover letters or messages in the message area of the e-mail; information that might appear in any cover letter should be included directly in the attached file containing the submission itself, including the sender's identifying information with telephone number, fax number, and e-mail address. The e-mail address for these submissions is FR0441@USTR.GOV. Documents not submitted in accordance with these instructions might not be considered in this review. If unable to provide submissions by e-mail, please contact the GSP Subcommittee to arrange for an alternative method of transmission.

Public versions of all documents relating to this review will be available for public review approximately three weeks after the due date by appointment in the USTR Public Reading Room, 1724 F Street NW., Washington, DC. Availability of documents may be ascertained, and appointments may be made from 9:30 a.m. to noon and 1 p.m. to 4 p.m., Monday through Friday, by calling 202-395-6186.

Marideth J. Sandler,
Executive Director for the GSP Program; Chairman, GSP Subcommittee of the Trade Policy Staff Committee.

[FR Doc. E5-8075 Filed 12-28-05; 8:45 am]

BILLING CODE 3190-W6-P